DEPARTMENT OF COMMERCE

National Oceanic and Atmospheric Administration

Evaluation of State Coastal Management Programs and National Estuarine Research Reserves

AGENCY: National Oceanic and Atmospheric Administration (NOAA), Office of Ocean and Coastal Resource Management, National Ocean Service, Commerce.

ACTION: Notice of Intent to Evaluate.

SUMMARY: The NOAA Office of Ocean and Coastal Resource Management (OCRM) announces its intent to evaluate the performance of the ACE Basin (South Carolina) National Estuarine Research Reserve and the Georgia Coastal Management Program.

The National Estuarine Research Reserve evaluation will be conducted pursuant to sections 312 and 315 of the CZMA and regulations at 15 CFR part 921, subpart E and part 923, subpart L. Evaluation of a National Estuarine Research Reserve requires findings concerning the extent to which a State has met the national objectives, adhered to its Reserve final management plan approved by the Secretary of Commerce, and adhered to the terms of financial assistance awards funded under the CZMA.

The Coastal Zone Management Program evaluation will be conducted pursuant to section 312 of the Coastal Zone Management Act of 1972, as amended (CZMA) and regulations at 15 CFR part 923, subpart L. The CZMA requires continuing review of the performance of States with respect to coastal program implementation. Evaluation of a Coastal Management Program requires findings concerning the extent to which a State has met the national objectives, adhered to its Coastal Management Program document approved by the Secretary of Commerce, and adhered to the terms of financial assistance awards funded under the CZMA.

Each evaluation will include a site visit, consideration of public comments, and consultations with interested Federal, State, and local agencies and members of the public. A public meeting will be held as part of the site visit. When the evaluation is completed, OCRM will place a notice in the Federal Register announcing the availability of the Final Evaluation Findings. Notice is hereby given of the dates of the site visits for the listed evaluations and the dates, local times, and locations of the public meetings during the site visits.

Date and Time: The ACE Basin (South Carolina) National Estuarine Research Reserve evaluation site visit will be held May 2-6, 2011. One public meeting will be held during the week. The public meeting will be held on Wednesday, May 4, 2011, at 6:30 p.m. local time in the conference room at the Environmental Learning Center, Edisto Island State Park, Oyster Row Lane, Edisto Island, South Carolina.

The Georgia Coastal Management Program evaluation site visit will be held May 23-27, 2011. One public meeting will be held during the week. The public meeting will be held on Wednesday, May 25, 2011, at 5:30 p.m. local time at the Shipman Environmental Center at the Georgia Department of Natural Resources Coastal Resources Division, One Conservation Way, Brunswick, Georgia.

ADDRESSES: Copies of the States' most recent performance reports, as well as OCRM's evaluation notification and supplemental information request letters to the State, are available upon request from OCRM. Written comments from interested parties regarding these programs are encouraged and will be accepted until 15 days after the public meeting held for the program. Please direct written comments to Kate Barba, Chief, National Policy and Evaluation Division, Office of Ocean and Coastal Resource Management, NOS/NOAA, 1305 East-West Highway, 10th Floor, N/ORM7, Silver Spring, Maryland 20910, or Kate.Barba@noaa.gov.

FOR FURTHER INFORMATION CONTACT: Kate Barba, Chief, National Policy and Evaluation Division, Office of Ocean and Coastal Resource Management, NOS/NOAA, 1305 East-West Highway, 10th Floor, N/ORM7, Silver Spring, Maryland 20910, (301) 563-1182, or Kate.Barba@noaa.gov.

Dated: March 9, 2011.
Donna Wieting,
Director, Office of Ocean and Coastal Resource Management, National Ocean Service, National Oceanic and Atmospheric Administration.

Federal Domestic Assistance Catalog 11.419. Coastal Zone Management Program Administration.

[FR Doc. 2011-6061 Filed 3-15-11; 8:45 am]

BILLING CODE 3510-08-P